DEPARTMENT OF TRANSPORTATION

Surface Transportation Board

[STB Finance Docket No. 33849]

Colorado Central Railroad Company, Operation Exemption, Yreka Western Railroad Company

Colorado Central Railroad Company (Colorado), a noncarrier, newly created to become a Class III railroad, has filed a verified notice of exemption under 49 CFR 1150.31 to operate approximately 8.9 miles of rail line currently owned by Yreka Western Railroad Company (Yreka), between milepost 0.0 in Montague and milepost 8.9 near Yreka, in Siskiyou County, CA.¹

¹ Colorado states that the Surface Transportation Board (Board) had previously authorized abandonment by Yreka of its entire 8.9 miles of rail line. See Yreka Western Railroad Company—Abandonment Exemption—in Siskiyou County, CA, STB Finance Docket No. AB-246 (Sub-No. 2X) (STB served May 4, 1999). Colorado further states that, as of the January 24, 2000 filing of the verified notice of exemption, the abandonment had not been consummated.

Colorado certifies that its annual revenues will not exceed those that would qualify it as a Class III rail carrier and that its revenues are not projected to exceed $5 million.

Colorado indicates that it has executed an agreement with Yreka to provide common carrier freight service as well as excursion passenger service.²

² Colorado asserts that intrastate excursion rail passenger service is not subject to the Board's regulatory jurisdiction, citing Napa Valley Wine Train, Inc.-Pet. for Declaratory Order, 7 I.C.C.2d 954, 960-65 (1991) and cases discussed therein and Magner-O'Hara Scenic Ry. v. I.C.C., 692 F.2d 441 (6th Cir. 1982).

The transaction was scheduled to be consummated on or after January 31, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33849, must be filed with the Surface Transportation Board, Office of the Secretary, Case Control Unit, 1925 K Street, N.W., Washington, DC 20423-0001. In addition, one copy of each pleading must be served on John D. Heffner, Rea, Cross & Auchincloss, 1707 L Street, N.W., Suite 570, Washington, DC 20036.

Board decisions and notices are available on our website at “WWW.STB.DOT.GOV.”

Decided: February 14, 2000.
By the Board, David M. Konschnik, Director, Office of Proceedings.
Vernon A. Williams,
Secretary.

[FR Doc. 00-4101 Filed 2-22-00; 8:45 am]

BILLING CODE 4915-00-P